ENVIRONMENTAL PROTECTION AGENCY

40 CFR Part 52

[IN214-1b; FRL-7470-8]

Approval and Promulgation of Implementation Plans; Indiana

AGENCY: Environmental Protection Agency (EPA).

ACTION: Proposed rule.

SUMMARY: The EPA is proposing to approve a revision to Indiana's shipbuilding and ship repair volatile organic compound (VOC) rules into the Indiana State Implementation Plan (SIP). This request for a SIP revision, which was submitted by the Indiana Department of Management on August 8, 2001, revises exemption levels and compliance, recordkeeping and reporting requirements and is being approved because these revisions are enforceable and in some cases more stringent than the existing rules.

In the “Rules and Regulations” section of this Federal Register, EPA is approving the State's SIP revision request as a direct final rule without prior proposal because EPA views this action as noncontroversial and anticipates no adverse comments. The rationale for approval is set forth in the direct final rule. If EPA receives no written adverse comments, EPA will take no further action on this proposed rule. If EPA receives written adverse comment, we will publish a timely withdrawal of the direct final rule in the Federal Register and inform the public that the rule will not take effect. In that event, EPA will address all relevant public comments in a subsequent final rule based on this proposed rule. In either event, EPA will not institute a second comment period on this action. Any parties interested in commenting must do so at this time.

DATES: Comments on this action must be received by May 1, 2003.

ADDRESSES: Written comments should be mailed to: J. Elmer Bortzer, Chief, Regulation Development Section, Air Programs Branch (AR-18J), U.S. Environmental Protection Agency, Region 5, 77 West Jackson Boulevard, Chicago, Illinois 60604.

A copy of the State's SIP revision request is available for inspection at the above address.

FOR FURTHER INFORMATION CONTACT: Steven Rosenthal, Air Programs Branch (AR-18J), U.S. Environmental Protection Agency, Region 5, 77 West Jackson Boulevard, Chicago, Illinois 60604, (312) 886-6052.

SUPPLEMENTARY INFORMATION: Throughout this document whenever “we,” “us,” or “our” are used we mean the EPA.

I. What action is EPA taking today?

II. Where can I find more information about this proposal and corresponding direct final rule?

I. What Action Is EPA Taking Today?

The EPA is proposing to approve a revision to Indiana's SIP which revises exemption levels and compliance and recordkeeping requirements in its shipbuilding and ship repair VOC rules. This revision was requested by Indiana on August 8, 2001, to streamline some of the overlapping requirements between the national emission standards for hazardous air pollutants and its shipbuilding and ship repair VOC rules.

II. Where Can I Find More Information About This Proposal and Corresponding Direct Final Rule?

For additional information see the direct final rule published in the rules section of this Federal Register.

Authority: 42 U.S.C. 4201 et seq.

Dated: March 4, 2003.
Bharat Mathur,
Acting Regional Administrator, Region 5.

[FR Doc. 03-7644 Filed 3-31-03; 8:45 am]

BILLING CODE 6560-50-P